DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's argument in favor of relief.

Durbin & Greenbrier Valley Railroad, Inc.

[Docket Number FRA-1999-5183]

The Durbin & Greenbrier Valley Railroad, Inc. (DGVR) seeks a waiver of compliance from certain provisions of the Safety Glazing Standards, 49 CFR 223.11, safety glazing requirements for existing locomotives.

DGVR stated that it has a locomotive (BL-2) which was built in 1948. The locomotive is on loan from the West Virginia State Rail Authority. This locomotive is used sporadically on track leased by DGVR's West Virginia Central Division.

DGVR requests the waiver based on the following three reasons: (1) The locomotive will be operated one to six excursions per week along 28 miles of rural and wildness track. There is no history of vandalism along this track. Most of this track passes through remote areas. Speed along the entire track is restricted under yard limit rules to no more than 15 miles per hour. There is only one overpass over the track and the overpass is a protected flood gate overpass which is continually patrolled. (2) The locomotive is a rare 1948 vintage BL-2 with the original glazing intact. Only a few of these types of engines were produced. Altering glazing on this old locomotive would change its appearance and would detract from its historic value and appeal. (3) This locomotive was originally built strictly for branch line service and it will be used exclusively in this manner.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-5183) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9:00 a.m.—5:00 p.m.) at the above facility. All documents in the public docket are also available for inspection and copying on the Internet at the docket facility's Web site at http://dms.dot.gov.

Issued in Washington, DC, on December 17, 2001.
Grady C. Cothen, Jr.,
Deputy Associate Administrator for Safety Standards and Program Development.

[FR Doc. 02-308 Filed 1-4-02; 8:45 am]

BILLING CODE 4910-06-P